DEPARTMENT OF ENERGY

Federal Energy Regulatory Commission

Combined Notice of Filings #2

Take notice that the Commission received the following electric rate filings:

Docket Numbers: ER26-1180-000.

Applicants: Midcontinent Independent System Operator, Inc., Ameren Illinois Company.

Description: 205(d) Rate Filing: Ameren Illinois Company submits tariff filing per 35.13(a)(2)(iii: 2026-01-30_SA 4668 Ameren Illinois-City of Farmer-IMEA WCA to be effective 4/1/2026.

Filed Date: 1/30/26.

Accession Number: 20260130-5089.

Comment Date: 5 p.m. ET 2/20/26.

Docket Numbers: ER26-1181-000.

Applicants: Tri-State Generation and Transmission Association, Inc.

Description: 205(d) Rate Filing: Initial Filing of Rate Schedule FERC No. 434 to be effective 4/1/2026.

Filed Date: 1/30/26.

Accession Number: 20260130-5111.

Comment Date: 5 p.m. ET 2/20/26.

Docket Numbers: ER26-1182-000.

Applicants: Old Gold Energy Center, LLC.

Description: 205(d) Rate Filing: Top of Iowa Wind LLC Notice of Succession to be effective 1/31/2026.

Filed Date: 1/30/26.

Accession Number: 20260130-5138.

Comment Date: 5 p.m. ET 2/20/26.

Docket Numbers: ER26-1183-000.

Applicants: Tri-State Generation and Transmission Association, Inc.

Description: 205(d) Rate Filing: Revisions to OATT, Attachment M, Formulaic Rates and Implementation Protocols to be effective 4/1/2026.

Filed Date: 1/30/26.

Accession Number: 20260130-5152.

Comment Date: 5 p.m. ET 2/20/26.

Docket Numbers: ER26-1184-000.

Applicants: Midcontinent Independent System Operator, Inc., American Transmission Company LLC.

Description: 205(d) Rate Filing: American Transmission Company LLC submits tariff filing per 35.13(a)(2)(iii: 2026-01-30_ATC Request for Incentives to be effective 4/1/2026.

Filed Date: 1/30/26.

Accession Number: 20260130-5155.

Comment Date: 5 p.m. ET 2/20/26.

Docket Numbers: ER26-1185-000.

Applicants: Southern California Edison Company.

Description: 205(d) Rate Filing: 2nd Amended IFA, CDWR (SA 419) & Greenspot IFA, SBVMWD & SGPWA (SA 1406) to be effective 2/1/2026.

Filed Date: 1/30/26.

Accession Number: 20260130-5160.

Comment Date: 5 p.m. ET 2/20/26.

Docket Numbers: ER26-1186-000.

Applicants: Midcontinent Independent System Operator, Inc.

Description: 205(d) Rate Filing: 2026-01-30_Schedule 31 Annual Update Filing to be effective 4/1/2026.

Filed Date: 1/30/26.

Accession Number: 20260130-5174.

Comment Date: 5 p.m. ET 2/20/26.

Docket Numbers: ER26-1187-000.

Applicants: Alabama Power Company, Georgia Power Company, Mississippi Power Company.

Description: 205(d) Rate Filing: Alabama Power Company submits tariff filing per 35.13(a)(2)(iii: City of Troy NITSA and NOA 2026 Rollover Filing to be effective 1/1/2026.

Filed Date: 1/30/26.

Accession Number: 20260130-5176.

Comment Date: 5 p.m. ET 2/20/26.

Docket Numbers: ER26-1188-000.

Applicants: Alabama Power Company, Georgia Power Company, Mississippi Power Company.

Description: 205(d) Rate Filing: Alabama Power Company submits tariff filing per 35.13(a)(2)(iii: City of Robertsdale NITSA 2026 Rollover Filing to be effective 1/1/2026.

Filed Date: 1/30/26.

Accession Number: 20260130-5177.

Comment Date: 5 p.m. ET 2/20/26.

Docket Numbers: ER26-1189-000.

Applicants: Alabama Power Company, Georgia Power Company, Mississippi Power Company.

Description: 205(d) Rate Filing: Alabama Power Company submits tariff filing per 35.13(a)(2)(iii: PowerSouth Amended and Restated Long-Term Firm PTP Agreement Filing to be effective 1/1/2026.

Filed Date: 1/30/26.

Accession Number: 20260130-5181.

Comment Date: 5 p.m. ET 2/20/26.

Docket Numbers: ER26-1190-000.

Applicants: Caprock Wind LLC.

Description: Compliance filing: Notice of Change in Status, Category Seller Status Change & Revised MBR Tariff to be effective 1/31/2026.

Filed Date: 1/30/26.

Accession Number: 20260130-5184.

Comment Date: 5 p.m. ET 2/20/26.

Docket Numbers: ER26-1191-000.

Applicants: San Diego Gas & Electric.

Description: 205(d) Rate Filing: Service Agreement No. 72 to be effective 9/15/2025.

Filed Date: 1/30/26.

Accession Number: 20260130-5189.

Comment Date: 5 p.m. ET 2/20/26.

Docket Numbers: ER26-1192-000.

Applicants: LRE Energy Services, LLC.

Description: Compliance filing: Notice of Change in Status, Category Seller Status Change & Revised MBR Tariff to be effective 1/31/2026.

Filed Date: 1/30/26.

Accession Number: 20260130-5186.

Comment Date: 5 p.m. ET 2/20/26.

Docket Numbers: ER26-1193-000.

Applicants: Southwest Power Pool, Inc.

Description: 205(d) Rate Filing: 3125R20 Basin Electric Power Cooperative NITSA and NOA to be effective 4/1/2026.

Filed Date: 1/30/26.

Accession Number: 20260130-5190.

Comment Date: 5 p.m. ET 2/20/26.

Docket Numbers: ER26-1194-000.

Applicants: Twelvemile Solar Energy, LLC.

Description: Compliance filing: Notice of Change in Status, Category Seller Status Change & Revised MBR Tariff to be effective 1/31/2026.

Filed Date: 1/30/26.

Accession Number: 20260130-5191.

Comment Date: 5 p.m. ET 2/20/26.

Docket Numbers: ER26-1195-000.

Applicants: 64NB 8me LLC.

Description: Compliance filing: Notice of Non-Material Change in Status and Revised Market-Based Rate Tariff to be effective 1/31/2026.

Filed Date: 1/30/26.

Accession Number: 20260130-5197.

Comment Date: 5 p.m. ET 2/20/26.

Take notice that the Commission received the following foreign utility company status filings:

Docket Numbers: FC26-8-000.

Applicants: Hexa Taiwan Companies.

Description: Hexa Taiwan Companies submit Notice of Self-Certification of Foreign Utility Company Status under FC26-8.

Filed Date: 1/30/26.

Accession Number: 20260130-5077.

Comment Date: 5 p.m. ET 2/20/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, the public is encouraged to contact OPP at (202) 502-6595 or OPP@ferc.gov.

Dated: January 30, 2026.
Debbie-Anne A. Reese,
Secretary.

[FR Doc. 2026-02411 Filed 2-5-26; 8:45 am]

BILLING CODE 6717-01-P